DEPARTMENT OF HOMELAND SECURITY

Bureau of Customs and Border Protection

General Program Test Extended: Quota Preprocessing

AGENCY: Customs and Border Protection; Department of Homeland Security.

ACTION: General notice.

SUMMARY: With this notice, the Bureau of Customs and Border Protection (CBP) announces that the duration of the quota preprocessing program test, which provides for the electronic processing of certain quota-class apparel merchandise prior to arrival of the importing carrier, is extended until December 31, 2006. The quota preprocessing program test is currently being conducted at all CBP ports and was set to expire on December 31, 2004. The duration of the test is being extended so that CBP can continue to evaluate the program's effectiveness. Public comments concerning any aspect of the program test as well as applications to participate in the test are requested.

DATES: The program test is extended to run until December 31, 2006. Applications to participate in the test and comments concerning the test will continue to be accepted throughout the testing period. Should the test be adopted as a permanent program under the CBP regulations through rulemaking, notification terminating the test will be issued.

ADDRESSES: Written comments regarding this notice or any aspect of the program test should be addressed to Christine DeRiso, Quota Enforcement and Administration, Bureau of Customs and Border Protection, 1300 Pennsylvania Avenue, NW., Room 5.3-D, Washington, DC 20229, or may be sent via e-mail to Quota,HQ@dhs.gov. An application to participate in the program test must be sent to the CBP port(s) (Attention: Program Coordinator for Quota Preprocessing) where the applicant intends to submit quota entries for preprocessing. Information on CBP port addresses may be obtained by contacting the CBP Web site at http://www.CBP.gov (Office Locations).

FOR FURTHER INFORMATION CONTACT: Christine DeRiso, Quota Enforcement and Administration (202-344-2319).

SUPPLEMENTARY INFORMATION:

Background

On July 24, 1998, the Bureau of Customs and Border Protection (CBP) published a general notice in the Federal Register (63 FR 39929) announcing the limited testing of a new operational procedure regarding the electronic processing of quota-class apparel merchandise. The test, authorized under § 101.9(a), CBP Regulations (19 CFR 101.9(a)), was commenced on September 15, 1998, at the ports of New York/Newark and Los Angeles. Quota preprocessing allows certain quota entries (merchandise classifiable in chapter 61 or 62 of the Harmonized Tariff Schedule of the United States (HTSUS)) to be filed, reviewed for admissibility, and to have their quota priority and status determined by CBP prior to arrival of the carrier, similar to the method of preliminary review by which non-quota entries are currently processed. The purpose of quota preprocessing is to reduce CBP processing time for qualified quota entries and to expedite the release of the subject merchandise to the importer. To this end, participants in the quota preprocessing test have been allowed to submit quota entries to CBP up to 5 days prior to vessel arrival or after the wheels are up on air shipments. The July 24, 1998, Federal Register notice described the new procedure, specified the eligibility and application requirements for participation in the program test, and noted the acts of misconduct for which a participant in the test could be suspended and disqualified from continued participation in the program. The test was scheduled to continue for a six-month period that expired on March 14, 1999.

On March 25, 1999, January 6, 2000, and November 30, 2000, CBP published general notices in the Federal Register (64 FR 14499, 65 FR 806, and 65 FR 71356, respectively) that extended the program test through December 31, 2002. These extensions of the test procedure were undertaken so that CBP could further evaluate the effectiveness of the program and determine whether the program test should be expanded to other ports. By a notice published in the Federal Register (66 FR 66018) on December 21, 2001, the test was expanded to a selected number of additional ports in order to enable CBP to continue to study the program's effectiveness and determine whether the program should be established nationwide on a permanent basis through appropriate amendments to the CBP Regulations. The additional ports selected to participate in the expanded program test were: Atlanta; Boston seaport; Logan Airport, Boston; Buffalo-Niagara Falls; Champlain-Rouses Point; Chicago; Columbus; Memphis; Miami; Miami International Airport; Newport/Portland, Oregon (the area port of Portland); Puget Sound (the ports of Seattle and Seattle/Tacoma International Airport); San Francisco seaport; and San Francisco International Airport. The expansion of the test to these ports was determined by the volume of quota lines of apparel merchandise entered at these ports. Because two of the additional ports selected to participate in the program test received shipments by land (Buffalo-Niagara Falls and Champlain-Rouses Point), CBP allowed quota entries in these circumstances to be presented to CBP after the carrier departed from its location in Canada destined for the U.S. border. Finally, by a notice published in the Federal Register (67 FR 57271) on September 9, 2002, CBP expanded the test to all CBP ports effective as of October 9, 2002, and extended the duration of the program test until December 31, 2004.

The duration of the test is now being further extended so that CBP can continue to evaluate the program's effectiveness.

Prospective applicants may consult the December 21, 2001, and July 24, 1998, Federal Register notices for a more detailed discussion of the quota preprocessing program and the September 9, 2002, Federal Register notice for eligibility criteria.

Application Process; Additional Ports; Misconduct

An importer wishing to participate in the quota preprocessing test must submit a written application to the attention of the Program Coordinator for Quota Preprocessing at each port where the applicant intends to submit quota entries for preprocessing. Information on CBP port addresses may be obtained by contacting the CBP Web site at http://www.CBP.gov (Office Locations).

The application must include the following information: (1) The specific port(s) included under the program where entries of the quota merchandise are intended to be made; (2) the importer of record number(s), including suffix(es), and a statement of the importer's/filer's electronic filing capabilities; and (3) names and addresses of any entry filers, including CBP brokers, who will be electronically filing entries at each port under the program on behalf of the importer/participant. Applicants will be notified in writing of their selection or nonselection to participate in the test. An applicant denied participation may appeal in writing to the port director at the port where the application was denied. Application requirements are set forth in the September 9, 2002, Federal Register notice.

Current participants in quota preprocessing that also wish to file entries under the program at any additional ports must notify, in writing, the additional port(s) at least 5 working days before submitting entries at such port(s). Also, for those that are selected to participate in the test, the July 24, 1998, Federal Register notice should be consulted regarding the acts of misconduct that may result in a participant being suspended from the program and how a participant may appeal a proposed suspension from the program.

Dated: January 4, 2005.
William S. Heffelfinger III,
Acting Assistant Commissioner, Office of Field Operations.

[FR Doc. 05-403 Filed 1-7-05; 8:45 am]

BILLING CODE 4820-02-P